FEDERAL MARITIME COMMISSION

Ocean Transportation Intermediary License Revocations

The Commission gives notice that the following Ocean Transportation Intermediary licenses have been revoked pursuant to section 19 of the Shipping Act of 1984 (46 U.S.C. 40101) effective on the date shown.

License No.: 4525F.

Name: Overseas Forwarding Corporation.

Address: 10975 NW 29th Street, Miami, FL 33172.

Date Revoked: April 26, 2013.

Reason: Voluntary Surrender of License.

License No.: 021582F.

Name: PNGL (USA) Inc.

Address: 2730 Monterey Street, Suite 103, Torrance, CA 90503.

Date Revoked: April 25, 2013.

Reason: Voluntary Surrender of License.

James A. Nussbaumer,
Deputy Director, Bureau of Certification and Licensing.

[FR Doc. 2013-12234 Filed 5-22-13; 8:45 am]

BILLING CODE 6730-01-P